DEPARTMENT OF ENERGY

Federal Energy Regulatory Commission

[Docket No. CP20-49-000]

Transcontinental Gas Pipe Line Company, LLC; Notice of Intent To Prepare an Environmental Document for a Proposed Amendment of the Northeast Supply Enhancement Project and Request for Comments on Environmental Issues

The staff of the Federal Energy Regulatory Commission (FERC or Commission) will prepare an environmental document that will discuss the environmental impacts of a proposed amendment to Transcontinental Gas Pipe Line Company, LLC's (Transco) Northeast Supply Enhancement Project. Transco seeks authorization to utilize and extend an existing road to access Compressor Station 206 in Somerset County, New Jersey in lieu of constructing the certificated access road. The Commission will use the environmental document in its decision-making process to determine whether the amendment is in the public convenience and necessity.

This notice announces the opening of the scoping process the Commission will use to gather input from the public and interested agencies about issues regarding the proposed amendment/alternative access road. The National Environmental Policy Act (NEPA) requires the Commission to take into account the environmental impacts that could result from its action whenever it considers the issuance of a Certificate of Public Convenience and Necessity. NEPA also requires the Commission to discover concerns the public may have about proposals. This process is referred to as “scoping.” The main goal of the scoping process is to focus the analysis in the environmental document on the important environmental issues. By this notice, the Commission requests public comments on the scope of the issues to address in the environmental document. To ensure that your comments are timely and properly recorded, please submit your comments so that the Commission receives them in Washington, DC on or before 5:00 p.m. Eastern Time on March 20, 2020.

You can make a difference by submitting your specific comments or concerns regarding the amendment. Your comments should focus on the potential environmental effects, reasonable alternatives, and measures to avoid or lessen environmental impacts. Your input will help the Commission staff determine what issues they need to evaluate in the environmental document. Commission staff will consider all filed comments during the preparation of the environmental document.

If you sent comments on this amendment to the Commission before the opening of this docket on January 31, 2020, you will need to file those comments in Docket No. CP20-49-000 to ensure they are considered as part of this proceeding.

This notice is being sent to the Commission's current environmental mailing list for this amendment. State and local government representatives should notify their constituents of the potential change in access to Compressor Station 206 and encourage them to comment on their areas of concern.

If you are a landowner receiving this notice, a pipeline company representative may contact you about the acquisition of an easement to construct, operate, and maintain the facilities. The company would seek to negotiate a mutually acceptable easement agreement. You are not required to enter into an agreement. However, if the Commission approves the amendment, that approval conveys with it the right of eminent domain. Therefore, if you and the company do not reach an easement agreement, the pipeline company could initiate condemnation proceedings in court. In such instances, compensation would be determined by a judge in accordance with state law.

Transco provided landowners with a fact sheet prepared by the FERC entitled “An Interstate Natural Gas Facility On My Land? What Do I Need To Know?” This fact sheet addresses a number of typically asked questions, including the use of eminent domain and how to participate in the Commission's proceedings. It is also available for viewing on the FERC website (www.ferc.gov) at https://www.ferc.gov/resources/guides/gas/gas.pdf.

Public Participation

The Commission offers a free service called eSubscription which makes it easy to stay informed of all issuances and submittals regarding the dockets/projects to which you subscribe. These instant email notifications are the fastest way to receive notification and provide a link to the document files which can reduce the amount of time you spend researching proceedings. To sign up go to www.ferc.gov/docs-filing/esubscription.asp.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on “eRegister.” You will be asked to select the type of filing you are making; a comment on a particular project is considered a “Comment on a Filing”; or

(3) You can file a paper copy of your comments by mailing them to the following address. Be sure to reference the projects' docket number (CP20-49-000) with your submission: Kimberly D. Bose, Secretary, Federal Energy Regulatory Commission, 888 First Street NE, Room 1A, Washington, DC 20426.

Summary of the Proposed Amendment

Transco proposes to amend the Northeast Supply Enhancement Project to utilize an alternative permanent access road to Compressor Station 206 (Higgins Farm Access Road) that would involve the use and extension of an existing road rather than construction of the previously approved access road across property owned by Trap Rock Industries (Trap Rock Access Road). Transco states the proposal would enable it to comply with requirements from the New Jersey Department of Environmental Protection and reduce wetland impacts. The existing road crosses the Higgins Farm Superfund Site for approximately 1,819 feet, terminating at an enclosed groundwater remediation system operated by the U.S. Environmental Protection Agency. Transco would not modify the U.S. Environmental Protection Agency road but would extend the road approximately 1,213 feet to the compressor station site. Most of the extension would occur on land owned by Transco. The figure in appendix 1 depicts the previously-approved Trap Rock Access Road and newly proposed Higgins Farm Access Road.¹

¹ The appendices referenced in this notice will not appear in the Federal Register. Copies of the appendices were sent to all those receiving this notice in the mail and are available at www.ferc.gov using the link called “eLibrary” or from the Commission's Public Reference Room, 888 First Street NE, Washington, DC 20426, or call (202) 502-8371. For instructions on connecting to eLibrary, refer to the last page of this notice.

Land Requirements for Construction

Construction of the Higgins Farm Access Road would disturb about 5.4 acres of land, all of which would be permanently impacted during operation of Compressor Station 206.

The Environmental Review Process

The environmental document will discuss impacts that could occur as a result of the construction and operation of the Higgins Farm Access Road under these general headings:

• geology and soils;

• water resources, fisheries, and wetlands;

• vegetation and wildlife;

• threatened and endangered species;

• cultural resources; and

• land use.

Commission staff will also evaluate reasonable alternatives to the proposed amendment, and make recommendations on how to lessen or avoid impacts on the various resource areas.

The environmental document will present Commission staffs' independent analysis of the issues. The environmental document will be available in electronic format in the public record through eLibrary ² and the Commission's website (https://www.ferc.gov/industries/gas/enviro/eis.asp). If eSubscribed, you will receive instant email notification when the environmental document is issued. The environmental document may be issued for an allotted public comment period. Commission staff will consider all comments on the environmental document before making recommendations to the Commission. To ensure Commission staff has the opportunity to consider and address your comments, please carefully follow the instructions in the Public Participation section, beginning on page 2.

² For instructions on connecting to eLibrary, refer to the last page of this notice.

With this notice, the Commission is asking agencies with jurisdiction by law and/or special expertise with respect to the environmental issues related to these projects to formally cooperate in the preparation of the environmental document.³ Agencies that would like to request cooperating agency status should follow the instructions for filing comments provided under the Public Participation section of this notice.

³ The Council on Environmental Quality regulations addressing cooperating agency responsibilities are at Title 40, Code of Federal Regulations, Part 1501.6.

Consultation Under Section 106 of the National Historic Preservation Act

In accordance with the Advisory Council on Historic Preservation's implementing regulations for section 106 of the National Historic Preservation Act, the Commission is using this notice to initiate consultation with the New Jersey State Historic Preservation Office, and to solicit their views and those of other government agencies, interested Indian tribes, and the public on the project's potential effects on historic properties.⁴ The environmental document will document findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register of Historic Places.

Currently Identified Environmental Issues

Commission staff has already identified several issues that deserve attention based on a preliminary review of the planned facility and the environmental information provided by Transco. This preliminary list of issues may change based on your comments and our analysis.

• water resources and wetlands;

• forested land;

• residences;

• special status species;

• agricultural land;

• special land uses; and

• pre-existing contamination.

Environmental Mailing List

The environmental mailing list includes federal, state, and local government representatives and agencies; elected officials; environmental and public interest groups; Native American Tribes; other interested parties; and local libraries and newspapers. This list also includes all affected landowners (as defined in the Commission's regulations) who are potential right-of-way grantors, and anyone who submits comments on the project. Commission staff will update the environmental mailing list as the analysis proceeds to ensure that Commission notices related to this environmental review are sent to all individuals, organizations, and government entities interested in and/or potentially affected by the planned amendment.

If the Commission issues the environmental document for an allotted public comment period, a Notice of Availability of the environmental document will be sent to the environmental mailing list and will provide instructions to access the electronic document on the FERC's website (www.ferc.gov). If you need to make changes to your name/address, or if you would like to remove your name from the mailing list, please return the attached “Mailing List Update Form” (appendix 2).

Additional Information

Additional information about the amendment/alternative access road is available from the Commission's Office of External Affairs, at (866) 208-FERC, or on the FERC website (www.ferc.gov) using the eLibrary link. Click on the eLibrary link, click on “General Search” and enter the docket number(s) in the “Docket Number” field, excluding the last three digits (i.e., CP20-49). Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

Public sessions or site visits will be posted on the Commission's calendar located at www.ferc.gov/EventCalendar/EventsList.aspx along with other related information.

Dated: February 19, 2020.
Kimberly D. Bose,
Secretary.

[FR Doc. 2020-03699 Filed 2-24-20; 8:45 am]

BILLING CODE 6717-01-P